DEPARTMENT OF LABOR

Employment and Training Administration

[TA-W-51,938]

The Eureka Company, White Consolidated Ltd., Electrolux Professional, Inc., El Paso, Texas; Amended Certification Regarding Eligibility To Apply for Worker Adjustment Assistance

In accordance with section 223 of the Trade Act of 1974 (19 U.S.C. 2273) the Department of Labor issued a Certification of Eligibility to Apply for Worker Adjustment Assistance on June 17, 2003, applicable to workers of The Eureka Company, El Paso, Texas. The notice was published in the Federal Register on July 3, 2003 (68 FR 39977).

At the request of the State agency, the Department reviewed the certification for workers of the subject firm. The workers are engaged in the production of vacuum cleaners.

New information shows that some workers separated from employment at the subject firm had their wages reported under a separate unemployment insurance (UI) tax account for White Consolidated LTD., Electrolux Professional, Inc.

Accordingly, the Department is amending the certification to properly reflect this matter.

The intent of the Department's certification is to include all workers of The Eureka Company, White Consolidated LTD., Electrolux Professional, Inc., El Paso, Texas who were adversely affected by increased imports.

The amended notice applicable to TA-W-51,938 is hereby issued as follows:

All workers of The Eureka Company, White Consolidated LTD., Electrolux Professional, Inc., El Paso, Texas, who became totally or partially separated from employment on or after May 9, 2003, through June 17, 2005, are eligible to apply for adjustment assistance under section 223 of the Trade Act of 1974.

Signed at Washington, DC this 30th day of September 2003.
Richard Church,
Certifying Officer, Division of Trade Adjustment Assistance.

[FR Doc. 03-25711 Filed 10-9-03; 8:45 am]

BILLING CODE 4510-30-P